DEPARTMENT OF COMMERCE

Economics and Statistics Administration

Census Advisory Committees

AGENCY: Economics and Statistics Administration, Department of Commerce.

ACTION: Notice of public meetings.

SUMMARY: Pursuant to the Federal Advisory Committee Act, Title 5, United States Code, Appendix 2, Section 10 (a)(b), we are giving notice of the following Census Advisory Committee (CAC) meetings:

• The CACs on the African American Population, the American Indian and Alaska Native Populations, the Asian Population, the Native Hawaiian and Other Pacific Islander Populations, and the Hispanic Population to be held on November 8, 2004.

• A special Joint Census Advisory Committee meeting of the CACs on Race and Ethnic Populations (REAC), the Decennial CAC (DCAC), and the Chairs of the CAC of Professional Associations (CACPA) to be held on November 9, 2004.

• The DCAC meeting to be held on November 10, 2004.

The special Joint Advisory Committee Meeting on November 9 will focus on data dissemination and privacy. The meetings on November 8 and 10 will discuss decennial planning issues and other issues of committee interest. Last minute changes to the schedule are possible, which could prevent advance notification.

DATES: On Monday, November 8, 2004, the REAC meeting will begin at approximately 1 p.m. and adjourn at approximately 5 p.m. On Tuesday, November 9, 2004, the special Joint CAC meeting will begin at approximately 9 a.m. and adjourn at approximately 4:30 p.m. On Wednesday, November 10, 2004, the DCAC meeting will begin at approximately 9 a.m. and adjourn at approximately 12 noon.

ADDRESSES: The meetings will be held at the U.S. Census Bureau, 4700 Silver Hill Road, Suitland, Maryland 20233.

FOR FURTHER INFORMATION CONTACT: Jeri Green, Committee Liaison Officer, Department of Commerce, U.S. Census Bureau, Room 3627, Federal Building 3, Washington, DC 20233, telephone: (301) 763-2070, TTY (301) 457-2540.

SUPPLEMENTARY INFORMATION: The CACs on the African American Population, American Indian and Alaska Native Populations, the Asian Population, the Native Hawaiian and Other Pacific Islander Populations, and the Hispanic Population are composed of nine members each, appointed by the Secretary of Commerce. The Committees advise the Director of the U.S. Census Bureau on a variety of issues concerning race and ethnicity and overall 2010 decennial census concerns. The Committees provide a continuing channel of communication between the Census Bureau and the communities they represent.

The DCAC is composed of a Chair, Vice Chair, and up to 40 member organizations, all appointed by the Secretary of Commerce. The Committee considers the goals of the decennial census and data user needs for census information. The Committee provides an outside user perspective on research and design elements planned for the 2010 decennial census, which includes the American Community Survey.

The CACPA is composed of 36 members appointed by the Presidents of the American Economic Association, the American Statistical Association, the Population Association of America, and the Chairman of the Board of the American Marketing Association. The Committee advises the Director, Census Bureau, on the full range of Census Bureau programs and activities in relation to each committee's areas of expertise and focus.

A brief period will be set aside for public comment. However, individuals with extensive statements for the record must submit them in writing to the Commerce Department official named above at least three working days prior to the meetings. Seating is available to the public on a first-come, first-served basis.

The meeting is physically accessible to people with disabilities. Requests for sign language interpretation or other auxiliary aids should be directed to the Census Bureau Committee Liaison Officer as soon as known, preferably two weeks prior to the meeting.

Dated: September 29, 2004.
Kathleen B. Cooper,
Under Secretary for Economic Affairs, Economics and Statistics Administration.

[FR Doc. 04-22492 Filed 10-5-04; 8:45 am]

BILLING CODE 3510-07-P